DEPARTMENT OF AGRICULTURE

Agricultural Marketing Service

[Doc. No. AMS-CN-22-0093]

Meeting of the Advisory Committee on Universal Cotton Standards

AGENCY: Agricultural Marketing Service, USDA.

ACTION: Notice of public meeting.

SUMMARY: In accordance with the Federal Advisory Committee Act, as amended, the Agricultural Marketing Service (AMS), U.S. Department of Agriculture (USDA), is announcing a meeting of the Advisory Committee on Universal Cotton Standards (Committee). This meeting is being convened to review the Universal Standards for American Upland cotton that are prepared by USDA and make recommendations to the Secretary of Agriculture regarding the establishment, revision, or change of the standards.

DATES: An in-person three-day meeting will be held June 25, 2024, from 1:30 p.m. to approximately 5 p.m. central time (CT), June 26, 2024, from 9 a.m. to approximately 5 p.m. CT and June 27, 2024, from 9 a.m. to approximately 12 p.m. CT.

ADDRESSES: The Committee meeting will be held at the DoubleTree by Hilton Memphis, 5069 Sanderlin Avenue, Memphis, TN 38117 on June 25, 2024, from 1:30 p.m. to approximately 5 p.m. CT and on June 26, 2024, from 9 a.m. CT to approximately 12 p.m. CT. The meeting will reconvene on June 26, 2024, from 1:30 p.m. CT to approximately 5 p.m. CT and on June 27, 2024, at 9 a.m. CT to approximately 12 p.m. CT at USDA, AMS, Cotton & Tobacco Program, 3275 Appling Road, Memphis, TN 38133. Information and instructions pertaining to the meeting can be found at https://www.ams.usda.gov/event/30th-universal-cotton-standards-conference or https://www.ams.usda.gov/about-ams/facas-advisory-councils/acucs.

FOR FURTHER INFORMATION CONTACT: Gretchen Deatherage, Designated Federal Officer, Advisory Committee on Universal Cotton Standards, USDA-AMS-Cotton and Tobacco Program, 3275 Appling Road, Memphis, TN 38133; Telephone: (901) 384-3030; Email: gretchen.deatherage@usda.gov.

SUPPLEMENTARY INFORMATION: Pursuant to the Federal Advisory Committee Act (FACA) (5 U.S.C. 10), the Secretary of Agriculture (Secretary) re-established the Committee in 2023 as announced in the Federal Register on May 2, 2023 (88 FR 27431). The Committee includes representatives of all segments of the U.S. cotton industry and the twenty international associations that are signatories to the Universal Cotton Standards Agreement which is authorized under the United States Cotton Standards Act (7 U.S.C. 51-65). The purpose of the meeting is: (1) to recommend to the Secretary of Agriculture any changes considered necessary to the Universal Standards; and (2) to visually review and approve the 2024 practical forms of the American Upland Cotton Grade Standards.

The meeting will be open to the public. The meeting agenda for June 25th includes presentations on a proposed standard for High Volume Instrument (HVI) color grade and a proposal to refresh the 1986 Original Standards. A formal meeting of the Committee will take place on the morning of June 26th, where presentations by invited speakers and formal Committee action will take place. On the afternoon of June 26th, Committee members will review the 1986 original set and reserve sets of standard guide boxes for authenticity. New practical forms will then be matched and approved on June 27th.

Public Comments: Written comments for the Committee's consideration during the meeting should be submitted no later than June 19, 2024, and will be accepted via https://www.regulations.gov: Doc. No. AMS-CN-22-0093. Comments can also be sent via email to gretchen.deatherage@usda.gov or by mail to USDA, AMS, Cotton & Tobacco Program, 3275 Appling Road, Room #5, Memphis, TN 38133. Any comments received after June 19th will be reviewed by AMS but may not receive Committee consideration.

Meeting Accommodations: The meeting locations are compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section. Determinations for reasonable accommodation will be made on a case-by-case basis.

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken into account the needs of the diverse groups served by the Department, membership shall include, to the extent practicable, individuals with demonstrated ability to represent the many communities, identities, races, ethnicities, backgrounds, abilities, cultures, and beliefs of the American people, including underserved communities.

Dated: May 28, 2024.
Cikena Reid,
USDA Committee Management Officer.

[FR Doc. 2024-12015 Filed 5-30-24; 8:45 am]

BILLING CODE 3410-02-P